CORPORATION FOR NATIONAL AND COMMUNITY SERVICE

Notice of Closed Meetings

AGENCY: Corporation for National and Community Service.

ACTION: Notice of Closed Meetings of the Board of Directors.

SUMMARY: On Friday, June 18, 2004, a majority of the Board of Directors (Board) of the Corporation for National and Community Service (Corporation) voted, pursuant to 45 CFR 2505.4, to close public observation for a newly-scheduled meeting on June 21, 2004, and for a portion of an expanded meeting on June 22, 2004 that was previously noticed in the Federal Register. The meetings, or portions thereof, to be closed involve discussions of the draft AmeriCorps rulemaking proposal the Corporation plans to submit to the Office of Management and Budget rulemaking docket. The vote followed a determination, in accordance with the Government in the Sunshine Act and the Corporation's regulations, that Board business required this discussion without the delay that would be necessary to make a public announcement at least one week before the meeting, as described in 45 CFR 2505.6. Thus, the Board determined by a majority vote that an additional meeting on June 21, 2004 was necessary and that the subject matter of the Board meeting on June 22, 2004, as previously announced, should be expanded, to add the discussion of this proposal to the agenda for this meeting, and that no earlier announcement of the change was possible.

In accordance with 45 CFR 2505.5(e), the General Counsel of the Corporation for National and Community Service has certified that, in his opinion, the portions of the meetings to be closed could properly be closed to public observation on the grounds that disclosing the information to be discussed to the public prematurely would significantly frustrate implementation of a proposed agency action, pursuant to 45 C.F.R. 2505.4(h)(i). The Board accepted that determination in voting to close the meetings.

As provided in 45 CFR 2505.5(c), the members of the Board voting in favor of closing this portion of the meeting were: Stephen Goldsmith; Alan Solomont; Dorothy Johnson; Donna Williams; Cynthia Burleson; and Carol Kinsley.

The Corporation expects the following Corporation for National and Community staff to attend the closed portions of the meetings: David Eisner, Chief Executive Officer; Michelle Guillermin, Chief Financial Officer and Acting Chief Operating Officer; Amy Mack, Chief of Staff; Frank Trinity, General Counsel; Rosie Mauk, Director of AmeriCorps; Katherine Hoehn, Director of Congressional Affairs; Nicola Goren, Associate General Counsel. In addition, the Corporation expects the following members of the Board of Directors to attend: Stephen Goldsmith (Chair); Alan Solomont; Dorothy Johnson; Donna Williams; Cynthia Burleson; Carol Kinsley; Henry Lozano; Marc Racicot; William Schambra; Juanita Doty.

FOR FURTHER INFORMATION CONTACT: For further information, contact Frank Trinity, General Counsel, at (202) 606-5000 ext. 256.

Dated: June 18, 2004.
Frank R. Trinity,
General Counsel.

[FR Doc. 04-14289 Filed 6-18-04; 4:58 pm]

BILLING CODE 6050-$$-P